FEDERAL MARITIME COMMISSION

Notice of Agreements Filed

The Commission hereby gives notice of the filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreement are available through the Commission's website (www.fmc.gov) or by contacting the Office of Agreements at (202) 523-5793 or tradeanalysis@fmc.gov.

Agreement No.: 201455.

Agreement Name: ZIM/ONE ZGT Space Charter Agreement.

Parties: Ocean Network Express Pte. Ltd.; and ZIM Integrated Shipping Services Ltd.

Filing Party: Wayne Rohde, Cozen O'Connor.

Synopsis: The Agreement authorizes ZIM to charter space to ONE on ZIM's ZGT service in the trades between ports on the U.S. East and Gulf Coasts, on the one hand, and ports in Argentina, Brazil, Uruguay, Colombia, Jamaica, and Mexico on the other hand.

Proposed Effective Date: 6/16/2025.

Location: https://www2.fmc.gov/FMC.Agreements.Web/Public/AgreementHistory/88624.

Dated: June 20, 2025.
Alanna Beck,
Federal Register Alternate Liaison Officer.

[FR Doc. 2025-11568 Filed 6-23-25; 8:45 am]

BILLING CODE 6730-02-P